DEPARTMENT OF TRANSPORTATION

Federal Aviation Administration

[Docket No.: 2006-25867]

Airport Privatization Pilot Program

AGENCY: Federal Aviation Administration (FAA), DOT.

ACTION: Notice of Receipt of Application of Chicago Midway International Airport, Chicago, Illinois; Commencement of 60-Day Public Review and Comment Period; Notice of Public Meeting.

SUMMARY: The Federal Aviation Administration (FAA) received the final application from the City of Chicago for the participation of Chicago Midway International Airport (MDW) in the Airport Privatization Pilot Program and has determined that the final application is substantially complete and accepted for review. The FAA is seeking information and comments from interested parties on the final application. In furtherance of this effort, a public meeting will be held Saturday, November 8, 2008.

Title 49 U.S.C. section 47134 establishes an airport privatization pilot program and authorizes the Department of Transportation to grant exemptions from certain Federal statutory and regulatory requirements for up to five airport privatization projects. The application procedures require the FAA to publish a notice of receipt of the final application in the Federal Register and accept public comment on the final application for a period of 60 days.

DATES: Comments must be received by December 22, 2008. Comments that are received after that date will be considered only to the extent possible.

Comments Invited

On Saturday, November 8, 2008, the Department of Transportation, Federal Aviation Administration, will conduct a public meeting to receive oral comments about the Chicago Midway final application; the Transportation Security Administration will also be participating.

The meeting will be held at The Marriott Chicago Midway, Midway Hotel Center, 65th and Cicero, Bedford Park, Illinois, 10 a.m. to 3 p.m.

Individuals wishing to address the Federal panel can sign up at the public meeting beginning at 9:30 a.m. The Federal panel will begin accepting comments at 10 a.m.

ADDRESSES: You may also send written comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

You must identify the docket number “FAA Docket No 2006-25867” at the beginning of your comments.

Examining the Application

The final application has been filed under FAA Docket Number 2006-25867. You may examine the final application on the Internet at http://www.regulations.gov or on the FAA's Web site http://www.faa.gov or in person at the Docket Operations office between 9 a.m. and 5 p.m., Monday through Friday, except Federal holidays. The Dockets Operations Office (800-647-5527) is located at the U.S. Department of Transportation, 1200 New Jersey Avenue SE., West Building Ground Floor, Room W12-140, Washington, DC 20590-0001. The Docket contains the preliminary and final applications, the agreements, any comments received and other information. The City of Chicago has also made copies of the final application available at the following locations:

Harold Washington Library Center, Government Publications Division (5th Floor), 400 S. State Street, Chicago, IL 60605, (312) 747-4300. Monday through Thursday, 9 a.m. to 9 p.m. Friday/Saturday, 9 a.m. to 5 p.m. Sunday, 1 p.m. to 5 p.m.

Archer Heights Library, Front Desk, 5055 S. Archer Avenue, Chicago, IL 60632, (312) 747-9241. Monday through Thursday, 9 a.m. to 9 p.m. Friday/Saturday, 9 a.m. to 5 p.m. Closed Sunday.

West Lawn Library, Front Desk, 4020 W. 63rd Street, Chicago, IL 60629, (312) 747-7381. Monday through Thursday, 9 a.m. to 9 p.m. Friday/Saturday, 9 a.m. to 5 p.m. Closed Sunday http://www.ChicagoPublicLibrary.org.

FOR FURTHER INFORMATION CONTACT: Kevin C. Willis, Compliance Specialist, Airport Compliance Division, ACO-100, Office of Airport Compliance and Field Operations, Federal Aviation Administration, 800 Independence Ave. SW., Washington, DC 20591. Telephone: 202-267-8741.

SUPPLEMENTARY INFORMATION: Title 49 of the U.S. Code Section 47134 authorizes the Secretary of Transportation, and through delegation, the FAA Administrator, to exempt a sponsor of a public use airport that has received Federal assistance, from certain Federal requirements in connection with the privatization of the airport by sale or lease to a private party. Specifically, the Administrator may exempt the sponsor from all or part of the requirements to use airport revenues for airport-related purposes, to pay back a portion of Federal grants upon the sale of an airport, and to return airport property deeded by the Federal Government upon transfer of the airport. The Administrator is also authorized to exempt the private purchaser or lessee from the requirement to use all airport revenues for airport-related purposes, to the extent necessary to permit the purchaser or lessee to earn compensation from the operations of the airport.

On September 16, 1997, the Federal Aviation Administration issued a notice of procedures to be used in applications for exemption under Airport Privatization Pilot Program (Notice of final application procedures for the Airport Privatization Pilot program: Application Procedures, 62 FR 48693-48708 (September 16, 1997) (Notice) (as modified, 62 FR 63211, Nov. 26, 1997). A request for participation in the Pilot Program must be initiated by the filing of either a preliminary or final application for exemption with the FAA.

The City of Chicago submitted a preliminary application to the Airport Privatization Pilot Program for Chicago Midway International Airport on September 14, 2006, the filing date of the preliminary application. The preliminary application was posted on the Docket Management System (now Regulations.gov) on September 15, 2006 at Docket No. 2006-25867 and readily available for public review. On October 3, 2006, the FAA informed the City that the application met the procedural requirements for participation in the airport privatization pilot program. This letter, posted on the Docket Management System on October 10, 2006, advised the City that the FAA accepted the application for review and that the City may select a private operator, negotiate an agreement and submit a final application to the FAA.

On October 14, 2008, the City of Chicago filed its final application. The City selected Midway Investment and Development Company LLC (“MIDCo”) to operate the Airport under a 99-year lease. The City will receive $2.521 billion upon signing the lease. In the final application, the City requested an exemption under 49 U.S.C. section 47134(b)(1) to permit the City to use revenue from the lease of airport property for non-airport purposes and under 49 U.S.C. section 47134(b)(2) to forego the repayment of Federal grants; and MIDCo requested an exemption under 49 U.S.C. section 47134(b)(3) to permit MIDCo to earn compensation from the operation of the airport.

The purpose of the public meeting scheduled for Saturday, November 8, 2008, is to accept oral comments on the Chicago Midway final application for inclusion in Docket No. 2006-25867. The meeting will be recorded by a court reporter. A transcript of the meeting and any material accepted by the panel during the meeting will be included in the public docket. The Federal panel will not be able to discuss the application or the pending agency decision because the Midway final application is presently before the agency for a decision. Sign and oral interpretation can be made available at the meeting, if requested 10 calendar days before the meeting. The Federal panel will begin accepting comments at 10 a.m.

The FAA has determined that the application is substantially complete. As part of its review of the final application, the FAA will consider all comments and written information submitted by interested parties during the 60-day comment period for this notice.

Issued in Washington, DC, on October 16, 2008.
Randall Fiertz,
Director, Office of Airport Compliance and Field Operations.

[FR Doc. E8-25050 Filed 10-20-08; 8:45 am]

BILLING CODE 4910-13-P